FEDERAL MARITIME COMMISSION

Notice of Agreement(s) Filed

The Commission hereby gives notice of the filing of the following agreement(s) under the Shipping Act of 1984. Interested parties can review or obtain copies of agreements at the Washington, DC, offices of the Commission, 800 North Capitol Street, NW., Room 940. Interested parties may submit comments on an agreement to the Secretary, Federal Maritime Commission, Washington, DC 20573, within 10 days of the date this notice appears in the Federal Register.

Agreement No.: 010099-039.

Title: International Council of Containership Operators.

Parties: A.P. Moller-Maersk Sealand; ANL Limited; American President Lines, Ltd.; APL Co. Pte. Ltd.; Atlantic Container Line AB; Australia-New Zealand Direct Line; Canada Maritime Limited; Cast Line Limited; CMA CGM, S.A.; Companhia Libra de Navegacao; Compania Sud-Americana de Vapores S.A.; Contship Containerlines; COSCO Container Lines Company Limited; CP Ships; Crowley Maritime Corporation; Evergreen Marine Corporation, Ltd.; Hamburg-Sud; Hanjin Shipping Co., Ltd.; Hyundai Merchant Marine Co., Ltd.; Italia di Navigazione, S.p.A.; Kawasaki Kisen Kaisha, Ltd.; Lykes Lines Limited, LLC; Malaysian International Shipping Company S.A.; Mediterranean Shipping Company S.A.; Mitsui O.S.K. Lines, Ltd.; Montemar Maritima S.A.; Neptune Orient Lines, Ltd.; Nippon Yusen Kaisha; Norasia Container Lines Limited; Orient Overseas Container Line, Limited; Pacific International Lines (Pte.) Ltd.; P&O Nedlloyd B.V.; P&O Nedlloyd Limited; Senator Lines GmbH; TMM Lines Limited, LLC; United Arab Shipping Company; Wan Hai Lines Ltd.; Zim Israel Navigation Co., Ltd.

Synopsis: The amendment removes Senator Lines as a participating party to the agreement.

Agreement No.: 011823-003.

Title: Contship/P&O Nedlloyd Vessel Sharing Agreement.

Parties: P&O Nedlloyd Limited/P&O Nedlloyd B.V. (as one party) Contship Containerlines, a division of CP Ships (UK) Limited.

Synopsis: The amendment adds provisions relating to the sale or sub-charter of unused capacity on an ad hoc basis to third parties and the sale of slots to (or slot purchases from) third parties on a more significant and permanent basis.

Dated: July 25, 2003.
By Order of the Federal Maritime Commission.
Bryant L. VanBrakle,
Secretary.

[FR Doc. 03-19420 Filed 7-29-03; 8:45 am]

BILLING CODE 6730-01-P